DEPARTMENT OF AGRICULTURE

Agricultural Marketing Service

[Doc. No. FV-04-702]

Request for an Extension of a Currently Approved Information Collection

AGENCY: Agricultural Marketing Service, USDA.

ACTION: Notice and request for comments.

SUMMARY: In accordance with the Paperwork Reduction Act of 1995 (44 U.S.C. chapter 35), this notice announces the Agricultural Marketing Service's (AMS) intention to request approval from the Office of Management and Budget for an extension of the currently approved information collection “Hass Avocado National Research, Promotion and Consumer Information Program.”

DATES: Comments received by October 19, 2004 will be considered.

ADDITIONAL INFORMATION OR COMMENTS: Contact Ethel Mitchell, Research and Promotion Branch, Fruit and Vegetable Programs, Agricultural Marketing Service, U.S. Department of Agriculture, 1400 Independence Avenue, SW., Stop 0244, Washington, DC 20250-0244; telephone: (202) 720-9915 and (202) 205-2800; ethel.mitchell@usda.gov.

SUPPLEMENTARY INFORMATION: Title: Hass Avocado National Research, Promotion and Consumer Information Program.

OMB Number: 0581-0197.

Expiration Date of Approval: October 31, 2004.

Type of Request: Extension of a currently approved information collection.

Abstract: This information collection requirement is essential to carry out the intent of the Hass Avocado Research, Promotion, and Consumer Information Act of 2000 (7 U.S.C. 7801-7813). This information collection requires a variety of forms. Such forms may include reports concerning status of information such as producer and importer report; transaction report; exemption from assessment form, and reimbursement form; form and information concerning board nomination and selection and acceptance statement; certification of industry organizations; and recordkeeping requirements. The forms and information covered under this information collection require the minimum information necessary to effectively carry out the requirements of the programs and their use is necessary to fulfill the intent of the applicable authorities. Assessment collection for domestic and imported Hass avocados to conduct research, promotion, industry information, and consumer information needed for the maintenance, expansion, and development of domestic markets for Hass avocados.

Estimate of Burden: Public reporting burden for this collection of information is estimated to average .5 hours per response.

Respondents: Producers, handlers and importers.

Estimated Number of Respondents: 6,310.

Estimated Number of Responses: 12,903.

Estimated Number of Responses per Respondent: 2.

Estimated Total Annual Burden on Respondents: 6,134.

This collection is being merged into the Research, Promotion, and Consumer Information Collection 0581-0093. Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Ethel Mitchell, Research and Promotion Branch, Fruit and Vegetable Programs, Agricultural Marketing Service, U.S. Department of Agriculture, 1400 Independence Avenue, SW., Stop 0244, Washington, DC 20250-0244; telephone: (202) 720-9915 and (202) 205-2800; ethel.mitchell@usda.gov. All comments received will be available for public inspection during regular business hours at the same address.

All responses to this notice will be summarized and included in the request for OMB approval. All comments will become a matter of public record.

Dated: August 16, 2004.
A.J. Yates,
Administrator, Agricultural Marketing Service.

[FR Doc. 04-19069 Filed 8-19-04; 8:45 am]

BILLING CODE 3410-02-P